DEPARTMENT OF COMMERCE

National Oceanic and Atmospheric Administration

Agency Information Collection Activities; Submission to the Office of Management and Budget (OMB) for Review and Approval; Comment Request; Tuna Tracking and Verification Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 21, 2025, during a 60-day comment period. This notice allows for an additional 30 days for public comments.

Agency: National Oceanic and Atmospheric Administration, Commerce.

Title: Tuna Tracking and Verification Program.

OMB Control Number: 0648-0335.

Form Number(s): NOAA Form 370.

Type of Request: Regular submission (Revision and extension of a current information collection).

Number of Respondents: 646.

Average Hours per Response: Fisheries Certificate of Origin: 25 minutes; Arrival Notification: 5 minutes; Chain of custody: 2 hours; Monthly Tuna Receiving reports and Storage Removal Reports: 1 hour; Tuna Tracking Form: 13 minutes.

Total Annual Burden Hours: 6,423.

Needs and Uses: This request is for the revision and extension of OMB Control Number: 0648-0335, sponsored by the National Oceanic and Atmospheric Administration's (NOAA's) National Marine Fisheries Service (NMFS) Office of International Affairs, Trade, and Commerce (IATC). This collection is being revised to transfer five (5) information collections currently included under OMB Control Number: 0648-0387, which is sponsored by the NMFS West Coast Region (WCR), to Control Number 0648-0335 to more accurately reflect how the information is actually being managed. All information collections referenced will be renewed under 0648-0335 going forward. There are no substantive changes to the information collection under 0648-0335 or those being brought over from 0648-0387. The five collections of information from 0648-0387 will be removed from that collection at the next renewal.

The information collected under 0648-0335, required by the International Dolphin Conservation Program Act (IDCPA), amendment to the Marine Mammal Protection Act (MMPA) (16 U.S.C. 1361 et seq.), is needed to: (1) document the dolphin-safe status of tuna import shipments; (2) verify that import shipments of fish were not harvested by large-scale, high seas driftnets; and (3) verify that tuna was not harvested by an embargoed nation or one that is otherwise prohibited from exporting tuna to the United States. Collected information includes the U.S. Customs and Border Protection (CBP) Entry Identification, date of entry, and contact details on the exporting and importing companies. It also includes harvest characteristics such as fishing vessel name, fishing trip dates, vessel flag, vessel gear type, and ocean area of harvest, as well as the declaration of the dolphin safe status of the shipment, and if applicable, the attachment of required certifications. Forms are submitted by importers and processors. NMFS uses this information to verify the dolphin-safe status of tuna shipments.

The five information collections from 0648-0387 being merged into 0648-0335 are required by the IDCPA (16 U.S.C. 1414), which amended the Dolphin Protection Consumer Information Act (DPCIA) (16 U.S.C. 1385). The IDCPA and the DPCIA, inter alia, authorize the Secretary of Commerce to promulgate regulations that implement the dolphin-safe labeling standard in the United States by the collection of documents on the dolphin-safe status of tuna import shipments and domestic tuna product processing; by (1) allowing documentary requests to allow for an effective tracking and verification program; and (2) by verifying that tuna was not harvested by a nation under embargo or otherwise prohibited from exporting tuna to the United States. This collection includes vessel arrival notifications, tuna tracking forms, tuna product receiving and processing reports, and documents/certifications that provide information on vessel characteristics and operations in the ETP, the origin of tuna and tuna products, and chain of custody recordkeeping requirements. At this time, we would also like to revise the information collection title from “Fisheries Certificate of Origin” to “Tuna Tracking and Verification Program”. As we make the necessary revisions to 0648-0335, it is imperative to amend the name to be more reflective of the broader information collections under our program and respected OMB control number.

Affected Public: Business or other for-profit organizations.

Frequency: Fisheries Certificate of Origin: Per applicable tuna importation; Monthly tuna receiving reports and Monthly tuna storage removal reports: Monthly; Vessel arrival notification and Tuna Tracking Form: Once per vessel trip; “Chain-of-custody”: On occasion.

Respondent's Obligation: Mandatory.

Legal Authority: Marine Mammal Protection Act (16 U.S.C. 1361 et seq.); the Dolphin Protection Consumer Information Act (16 U.S.C. 1385), and the International Dolphin Conservation Program Act (16 U.S.C. 1414).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0335.

Sheleen Dumas,
Departmental PRA Compliance Officer, Office of the Under Secretary for Economic Affairs, Commerce Department.

[FR Doc. 2025-16682 Filed 8-29-25; 8:45 am]

BILLING CODE 3510-22-P